DEPARTMENT OF ENERGY

Western Area Power Administration

Parker-Davis Project; Transmission Capacity for Renewable Energy Between Electrical District No. 5 Substation and the Palo Verde Hub

AGENCY: Western Area Power Administration, DOE.

ACTION: Request for Statements of Interest (SOI).

SUMMARY: The Western Area Power Administration (Western), a Federal power marketing agency of the United States Department of Energy (DOE), is requesting SOIs from entities that are interested in purchasing transmission service. Western is evaluating a proposal which would create a new transmission path on the Parker-Davis Project (P-DP) that could facilitate the transmission of renewable generation, and is seeking interest from any entity or entities desiring to purchase Long-Term Firm Transmission Service to deliver such renewable generation over the P-DP transmission system.

DATES: To be assured consideration, all responses should be received by Western on or before 4 p.m. m.s.t. on August 25, 2010.

ADDRESSES: Send written responses to: Darrick Moe, Regional Manager, Desert Southwest Customer Service Region, Western Area Power Administration, P.O. Box 6457, Phoenix, AZ 85005-6457. Responses may be delivered by certified mail, commercial mail, e-mail DSWFPP@wapa.gov, or fax 602-605-2490.

FOR FURTHER INFORMATION CONTACT: For further information please contact Mr. Todd Rhoades, Project Manager, Desert Southwest Regional Office, Western Area Power Administration, P.O. Box 6457, Phoenix, AZ 85005-6457, (602) 605-2613, e-mail DSWFPP@wapa.gov. This notice is also available on Western's Web site at http://www.wapa.gov/fedreg/fedreg10.htm.

SUPPLEMENTARY INFORMATION: Western markets and transmits wholesale hydroelectric power, generated at Federal dams across the western United States. Western's transmission system was developed to deliver this hydropower to its customers. The P-DP includes Davis Dam and Powerplant, Parker Dam and Powerplant and approximately 1,700 miles of high-voltage transmission lines and the associated substations and switchyards. The P-DP serves as a major transmission system for delivery of power over long distances in Arizona, with facilities extending into the southern parts of California and Nevada. Palo Verde is a major trading hub for wholesale power, offering access to multiple markets in the western United States.

In this notice, Western solicits SOIs to allow Western to determine the level of interest for long-term firm transmission service on the P-DP for the purpose of transmitting renewable energy. Specifically, Western is soliciting interest from entities looking to transfer renewable energy from the area south of Phoenix, Arizona to the Palo Verde market hub. Points of receipt for transmission service could include any of Western's substations in the vicinity of Electrical District No. 5 (ED-5) Substation near Eloy, Arizona; Casa Grande Substation near Casa Grande, Arizona; or Test Track Substation near Maricopa, Arizona. An expression of interest in purchasing P-DP long-term firm transmission service made by submitting a SOI is not binding or promissory. SOIs submitted with respect to this notice should include the following information:

1. Name and general description of the entity submitting the SOI;

2. Name, mailing address, telephone number, facsimile number, and e-mail address of that entity's primary contact;

3. Description of the renewable energy resources the proposed transmission path would serve, including type(s) of renewable resources, general location of load or markets, and any other information that would be useful;

4. The amount of long-term firm transmission service and the interconnection or receipt points on the proposed path.

Environmental Compliance

In compliance with the National Environmental Policy Act of 1969 (NEPA) (42 U.S.C. 4321, et seq.), the Council on Environmental Quality Regulations for implementing NEPA (40 CFR parts 1500-1508) and the DOE NEPA Implementing Procedures and Guidelines (10 CFR part 1021), Western has determined that this action is categorically excluded from further NEPA analysis. Future actions under this authority will undergo appropriate NEPA analysis.

Dated: July 16, 2010.
Anthony H. Montoya,
Chief Operating Officer.

[FR Doc. 2010-18206 Filed 7-23-10; 8:45 am]

BILLING CODE 6450-01-P